NATIONAL SCIENCE FOUNDATION

National Science Board

Committee on Education and Human Resources; Sunshine Act Meetings

Date and Time: May 5, 2003, 1 p.m.-2 p.m. Open session.

Place: The National Science Foundation, Stafford One Building, 4201 Wilson Boulevard, Room 130, Arlington, VA 22230.

Status: This meeting will be open to the public.

Matters to be Considered: Monday, May 5, 2003.

Open Session (1 p.m. to 2 p.m.)

Consideration of the recommendation of the NSB/EHR Committee Task Force on National Workforce Policies for Science and Engineering to transmit its draft report (NSB/NWP 03-09) to the full Board to be considered for approval as a draft NSB report for public comment.

FOR FURTHER INFORMATION CONTACT: Gerard Glaser, Executive Officer, NSB, (703) 292-7000, www.nsf.gov/nsb.

Gerard Glaser,
Executive Officer.

[FR Doc. 03-10810 Filed 4-28-03; 4:15 pm]

BILLING CODE 7555-01-M